ENVIRONMENTAL PROTECTION AGENCY

[FRL-9967-10-Region 1]

Proposed CERCLA Administrative Settlement Agreement; RBF Frozen Desserts Superfund Site, West Hartford, Connecticut

AGENCY: Environmental Protection Agency (EPA).

ACTION: Notice of proposed settlement; request for public comments.

SUMMARY: In accordance with Section 122(i) of the Comprehensive Environmental Response, Compensation, and Liability Act, as amended (“CERCLA”), notice is hereby given of a proposed administrative settlement for recovery of response costs under CERCLA Section 122(h)(1), concerning the RBF Frozen Desserts Superfund Site in West Hartford, Connecticut with the following settling party: H.P.D.I., LLC. The settlement requires H.P.D.I., LLC to pay $40,000.00 to the Hazardous Substance Superfund, in two installments.

For 30 days following the date of publication of this notice, the Environmental Protection Agency (EPA) will receive written comments relating to the settlement. The United States will consider all comments received and may modify or withdraw its consent to the settlement if comments received disclose facts or considerations which indicate that the settlement is inappropriate, improper, or inadequate. EPA's response to any comments received will be available for public inspection at 5 Post Office Square, Boston, MA 02109-3912.

DATES: Comments must be submitted by October 6, 2017.

ADDRESSES: Comments should be addressed to Cynthia Lewis, Senior Enforcement Counsel, U.S. Environmental Protection Agency, 5 Post Office Square, Suite 100 (OES04-3), Boston, MA 02109-3912; (617) 918-1889, and should refer to: In re: RBF Frozen Desserts Superfund Site, EPA Region 1 CERCLA Docket No. 01-2017-0064.

FOR FURTHER INFORMATION CONTACT: A copy of the proposed settlement may be obtained from Cynthia Lewis, Senior Enforcement Counsel, U.S. Environmental Protection Agency, 5 Post Office Square, Suite 100 (OES04-3), Boston, MA 02109-3912; (617) 918-1889; lewis.cindy@epa.gov.

SUPPLEMENTARY INFORMATION: This proposed administrative settlement for recovery of response costs under CERCLA Sections 122(h)(1), concerning the RBF Frozen Desserts Superfund Site in West Hartford, Connecticut, requires the settling party, H.P.D.I., LLC to pay $40,000.00, in two installments, to the Hazardous Substance Superfund.

The settlement includes a covenant not to sue pursuant to Sections 106 and 107(a) of CERCLA, 42 U.S.C. 9606 and 9607, relating to the Site, and protection from contribution actions or claims as provided by Sections 113(f)(2) and 122(h)(4) of CERCLA, 42 U.S.C. 9613(f)(2) and 9622(h)(4).

Dated: August 9, 2017.
Bryan Olson,
Director, Office of Site Remediation and Restoration.

[FR Doc. 2017-18872 Filed 9-5-17; 8:45 am]

BILLING CODE 6560-50-P